FEDERAL COMMUNICATIONS COMMISSION

47 CFR Part 73

[DA 00-2773; MM Docket No. 00-107; RM-9891]

Radio Broadcasting Services; Florence and Comobabi, AZ

AGENCY: Federal Communications Commission.

ACTION: Final rule.

SUMMARY: This document substitutes Channel 276C for Channel 276C1 at Florence, Arizona, and modifies the license of Station KCDX accordingly, as requested by Desert West Air Ranchers. Additionally, Channel *275A, Comobabi, Arizona, is removed from Section 73.202(b), the Table of FM Allotments since no expression of interest in retaining a Class A channel at that community was received. See 65 FR 41037, July 3, 2000. Coordinates used for Channel 276C at Florence, Arizona, are 32-48-45 NL and 110-57-30 WL. As Florence is located within 320 kilometers (199 miles) of the U.S.-Mexico border, concurrence of the Mexican government to this allotment was requested, but has not been received. Therefore, the allotment of Channel 276C at Florence is conditioned on concurrence of the Mexican government in accordance with the 1992 USA-Mexico FM Broadcast Agreement.

DATES: Effective January 22, 2001.

FOR FURTHER INFORMATION CONTACT: Nancy Joyner, Mass Media Bureau, (202) 418-2180.

SUPPLEMENTARY INFORMATION: This is a synopsis of the Commission's Report and Order, MM Docket No. 00-107, adopted November 29, 2000, and released December 8, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Arizona, is amended by removing Comobabi, Channel *275A.

3. Section 73.202(b), the Table of FM Allotments under Arizona, is amended by removing Channel 276C1 and adding Channel 276C at Florence.

Federal Communications Commission.
John A. Karousos,
Chief, Allocations Branch, Policy and Rules Division, Mass Media Bureau.

[FR Doc. 00-32248 Filed 12-18-00; 8:45 am]

BILLING CODE 6712-01-P